Proclamation 10596 of June 14, 2023

World Elder Abuse Awareness Day, 2023

By the President of the United States of America

A Proclamation

Around the world, a silent epidemic of elder abuse is denying seniors the ability to age with dignity, security, and grace. No nation is immune. In America, 1 in 10 people over the age of 60 has experienced some form of elder abuse, with cases still widely underreported. On World Elder Abuse Awareness Day, we highlight the signs of this crisis, lift up the voices of survivors, and strive to improve resources for those on a path to healing.

Fighting elder abuse begins with bringing it out of the shadows and raising awareness about its many forms. While some victims show injuries from physical or sexual violence, others experience psychological abuse, neglect, and financial exploitation, which may be more difficult to detect. These offenses can happen anywhere—at home with family or friends, at work among colleagues, online, and in other public and private places. Wherever it occurs, it is antithetical to the basic American belief that every human being, regardless of age, deserves to be treated with dignity and respect.

To date, my Administration has invested over $430 million to strengthen Adult Protective Services across our country, improving their ability to investigate reports of elder abuse; support survivors with emergency needs like food, shelter, or law enforcement protection; and help provide medical and mental health treatment, legal and financial assistance, and more. My 2024 Budget calls for an additional $43 million beyond our current spending level to support these vital programs.

Last year, I reauthorized and strengthened the Violence Against Women Act, which includes dedicated funding for service providers, law enforcement, and prosecutors responding to domestic and sexual violence experienced by older adults. And because America's seniors saw over $3 billion siphoned from their pockets by fraudsters and scammers last year, the Federal Trade Commission, the Federal Communications Commission, the Consumer Financial Protection Bureau, and other regulatory agencies have been laser-focused on identifying, preventing, and, where appropriate, taking enforcement action against loan scams, mortgage scams, romance scams, price gouging, and identity theft. Every American—especially seniors who have worked their whole lives for what they have—deserves the peace of knowing that they are protected from exploitation and that help is close at hand should emergencies arise.

But the security of elderly people involves more than protecting them against malicious schemes. My Administration is also working to improve the quality of care that older Americans receive at home and in other residential settings. Long-term care costs for the elderly and people with disabilities are up 40 percent over the last decade, and too many care workers are underpaid and undervalued. In fact, too many are leaving the profession altogether. That is why, in addition to implementing a National Strategy to Support Family Caregivers, I signed an Executive Order on Increasing Access to High-Quality Care and Supporting Caregivers. It will make long-term care more accessible and affordable for families; support family caregivers shouldering immense responsibility; and improve job quality for home care workers and staff at nursing homes, which in turn bolsters the workforce. I continue calling on the Congress to pass laws that improve the safety and quality of care in nursing homes. My new Budget would also invest $150 billion over the next decade to improve and expand Medicaid home- and community-based services—making it easier for seniors and people with disabilities to receive quality care in their own homes.

The same principles guiding my Administration's work to protect and support the elderly at home also motivate our partnerships abroad. United States local law enforcement agencies, through Department of State programs, are training foreign counterparts to help them investigate crimes against the elderly and provide assistance to victims. Through the first-ever Strategy on Global Women's Economic Security, we are also working to improve conditions and opportunities for caregivers around the world, many of whom are older women or support aging adults. Our Strategy to Prevent and Respond to Gender-based Violence Globally is meanwhile focused on fighting elder abuse as a form of gender-based violence, recognizing that gender-based violence affects people of all ages, including older adults.

Today, let us pledge to protect seniors who deserve to be treated with dignity and respect not only because of a lifetime of contribution but because of their overriding humanity. It is fundamental that we shape a world that values seniors' wisdom, celebrates their achievements, and treats their lives and rights as sacred, and it is within our reach to make it a reality.

NOW, THEREFORE, I, JOSEPH R. BIDEN JR., President of the United States of America, by virtue of the authority vested in me by the Constitution and the laws of the United States, do hereby proclaim June 15, 2023, as World Elder Abuse Awareness Day. I encourage all Americans to be diligent, work together to strengthen existing partnerships, and develop new opportunities to improve our Nation's prevention and response to elder abuse, neglect, and exploitation.

IN WITNESS WHEREOF, I have hereunto set my hand this fourteenth day of June, in the year of our Lord two thousand twenty-three, and of the Independence of the United States of America the two hundred and forty-seventh.

[FR Doc. 2023-13170

Filed 6-16-23; 8:45 am]

Billing code 3395-F3-P